INTERNATIONAL TRADE COMMISSION

[Investigation Nos. 701-TA-469 and 731-TA-1168 (Preliminary)]

Certain Seamless Carbon and Alloy Steel Standard, Line, and Pressure Pipe From China

Determinations

On the basis of the record ¹ developed in the subject investigations, the United States International Trade Commission (Commission) determines, pursuant to sections 703(a) and 733(a) of the Tariff Act of 1930 (19 U.S.C. 1671b(a) and 1673b(a)) (the Act), that there is a reasonable indication that an industry in the United States is threatened with material injury by reason of imports from China of certain seamless carbon and alloy steel standard, line, and pressure pipe, provided for in subheadings 7304.19, 7304.31, 7304.39, 7304.51, and 7304.59 of the Harmonized Tariff Schedule of the United States, that are alleged to be subsidized by the Government of China and sold in the United States at less than fair value (LTFV).

¹ The record is defined in section 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in these investigations under sections 703(b) and 733(b) of the Act, or, if the preliminary determinations are negative, upon notice of affirmative final determinations in these investigations under sections 705(a) and 735(a) of the Act. Parties that filed entries of appearance in the preliminary phase of the investigations need not enter a separate appearance for the final phase of the investigations. Industrial users, and, if the merchandise under investigations is sold at the retail level, representative consumer organizations have the right to appear as parties in Commission antidumping and countervailing duty investigations. The Secretary will prepare a public service list containing the names and addresses of all persons, or their representatives, who are parties to the investigations.

Background

On September 16, 2009, counsel on behalf of U.S. Steel Corp., Pittsburgh, PA and V&M Star L.P., Houston, TX, filed a countervailing duty and antidumping petition with both the Commission and the Department of Commerce.² The petition alleges that an industry in the United States is materially injured and threatened with material injury by reason of imports of certain seamless carbon and alloy steel standard, line, and pressure pipe allegedly subsidized by the Government of China and sold at less than fair value. Accordingly, effective September 16, 2009, the Commission instituted countervailing duty investigation No. 701-TA-469 (Preliminary) and antidumping duty investigation No. 731-TA-1168 (Preliminary).

² On September 25, 2009, the petition was amended to add TMK IPSCO and The United Steel, Paper and Forestry, Rubber, Manufacturing, Energy, Allied Industrial and Service Worker International Union (“USW”) as additional petitioners.

Notice of the institution of the Commission's investigations and of a public conference to be held in connection therewith was given by posting copies of the notice in the Office of the Secretary, U.S. International Trade Commission, Washington, DC, and by publishing the notice in the Federal Register of September 22, 2009 (74 FR 48292). The conference was held in Washington, DC, on October 7, 2009, and all persons who requested the opportunity were permitted to appear in person or by counsel.

The Commission transmitted its determinations in these investigations to the Secretary of Commerce on November 2, 2009. The views of the Commission are contained in USITC Publication 4106 (November 2009), entitled Certain Seamless Carbon and Alloy Steel Standard, Line, and Pressure Pipe From China (Preliminary).

Issued: November 2, 2009.
By order of the Commission.
Marilyn R. Abbott,
Secretary to the Commission.

[FR Doc. E9-26788 Filed 11-5-09; 8:45 am]

BILLING CODE 7020-02-P